DEPARTMENT OF COMMERCE

National Oceanic and Atmospheric Administration

[RTID 0648-XE821]

Mid-Atlantic Fishery Management Council; Public Meeting

AGENCY: National Marine Fisheries Service (NMFS), National Oceanic and Atmospheric Administration (NOAA), Commerce.

ACTION: Notice; public meeting.

SUMMARY: A sub-panel of the Mid-Atlantic and South Atlantic Fishery Management Councils' Scientific and Statistical Committees (SSCs) will hold a meeting.

DATES: The meeting will be held on Monday, April 21, 2025 and Wednesday, April 23, 2025, from 1 p.m. to 4:30 p.m., each day. See SUPPLEMENTARY INFORMATION for agenda details.

ADDRESSES: The meeting will take place over webinar using the Webex platform with a telephone-only connection option. Details on how to connect to the webinar by computer and by telephone will be available at: www.mafmc.org/ssc.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The joint sub-panel, consisting of Mid-Atlantic and South Atlantic SSC members, will meet to review the Data Limited Methods (DLM) model for the Atlantic Blueline Tilefish stock north of Cape Hatteras, North Carolina developed as part of the SouthEast Data, Assessment, and Review (SEDAR) 92 process. Based on the results of the DLM model, the sub-group will also develop preliminary overfishing limit (OFL) and acceptable biological catch (ABC) recommendations, including methods on how to partition the ABC between the Mid-Atlantic and South Atlantic jurisdictions. The sub-group will conduct the review and develop a report that addresses nine Terms of Reference that considers the assessment model methods, data quality and uncertainty, recent fishery-independent survey information, and the overall assessment and review process. The final report, sub-panel recommendations, and preliminary catch limits will be presented and reviewed at subsequent meetings by the full Mid-Atlantic and South Atlantic SSCs.

A detailed agenda and background documents will be made available on the Council's website (www.mafmc.org) prior to the meeting.

Special Accommodations

These meetings are physically accessible to people with disabilities. Requests for sign language interpretation or other auxiliary aid should be directed to Shelley Spedden,

(302) 526-5251, at least 5 days prior to the meeting date.

Authority: 16 U.S.C. 1801 et seq.

Dated: April 1, 2025.
Rey Israel Marquez,
Acting Deputy Director, Office of Sustainable Fisheries, National Marine Fisheries Service.

[FR Doc. 2025-05854 Filed 4-3-25; 8:45 am]

BILLING CODE 3510-22-P